DEPARTMENT OF LABOR

Employment and Training Administration

Office of Apprenticeship and the Women's Bureau; Notice of Availability of Funds and Solicitation for Grant Applications for Women in Apprenticeship and Nontraditional Occupations (WANTO) Grants

AGENCY: Employment and Training Administration, U.S. Department of Labor.

Announcement Type: Notice of Solicitation for Grant Announcement (SGA).

Funding Opportunity Number: SGA/DFA-PY-09-03.

Catalog of Federal Domestic Assistance Number: 17.201.

SUMMARY: The Women's Bureau (WB) and the Employment and Training Administration's (ETA) Office of Apprenticeship (OA), U.S. Department of Labor (DOL or Department), announce the availability of approximately $1,800,000 to establish a grant program for the purpose of assisting employers and labor management organizations in the placement and retention of women in apprenticeship and nontraditional occupations as defined in Section VIII.F., Acronyms and Definitions. This Program Year (PY) 2009 and 2010 SGA is authorized under the WANTO Act of 1992, Public Law 102-530, 29 USC 2501 et seq. To that end, the OA and WB plan to disburse PY 2009 and 2010 WANTO grant funds to six community-based organization (CBO)/registered apprenticeship program (RAP) consortia to conduct innovative projects to improve outreach, recruitment, hiring, training, employment, and retention of women in apprenticeships in the nontraditional occupations, as defined in Section VIII.F. This SGA focuses upon recruitment, training, placement and retention in the industries described in Section I.B of this SGA.

Each CBO/RAP consortium must consist of a minimum of two components: (1) An industry RAP sponsor (which can be an individual employer, association of employers, or an apprenticeship committee designated by the sponsor to administer and operate an apprenticeship program and in whose name the apprenticeship program is registered or approved), and (2) a CBO (which may be a faith-based organization (FBO)) that has demonstrated experience in providing women with job-training services, as described in the definitions of apprenticeship committee, CBO, CBO/RAP consortium, and registered apprenticeship program sponsors in Section VIII.F. It is anticipated that awards will be in the amount of up to $300,000 over the two-year grant period. The grants will be awarded in June 2010, and will be funded incrementally.

ADDRESSES: Mailed applications must be addressed to the U.S. Department of Labor, Employment and Training Administration, Division of Federal Assistance, Attention: Mamie Williams, Grants Management Specialist, Reference SGA/DFA PY 09-03, 200 Constitution Avenue, NW., Room N-4716, Washington, DC 20210. For complete “Application and Submission Information,” please refer to Section IV.

DATES: Key Dates: The closing date for receipt of applications is April 29, 2010.

SUPPLEMENTARY INFORMATION: This SGA consists of eight sections:

• Section I provides the funding opportunity description.

• Section II describes the size and nature of the anticipated awards.

• Section III describes applicant eligibility criteria.

• Section IV outlines the application submission and withdrawal requirements.

• Section V describes the application review information.

• Section VI outlines additional award administration information.

• Section VII lists the agency contact.

• Section VIII provides other information, including acronyms and definitions.

I. Funding Opportunity Description

A. Background: The WANTO Act of 1992, Public Law 102-530, 29 U.S.C. 2501 et seq. authorizes DOL to disburse competitive technical assistance grants to community-based organizations that, in turn, assist employers and labor unions in the recruitment, training, placement, and retention of women into apprenticeship and nontraditional occupations. The WANTO Act Technical Assistance Grants program was funded and implemented beginning in fiscal year 1994. The WB and OA co-administer the WANTO Technical Assistance Grants program, and have the joint responsibility for implementing this grant process and may award grants up to the annually-appropriated funding levels.

B. Purpose: The WANTO Act's purpose is to provide technical assistance to employers and labor unions to assist them in placing women into apprenticeable and nontraditional occupations (A/NTO). Apprenticeable occupations are described in Section VIII.F. One of the means of providing this technical assistance is through competitive grants awarded to CBOs that focus on conducting innovative projects to improve the recruitment, selection, training, employment, and retention of women into apprenticeable occupations.

DOL has found that placement and retention of women into A/NTO poses significant challenges. For example, on average, only three percent of all newly registered and active apprentices in construction occupations currently are women, although approximately 75 percent of all registered apprenticeship programs are in the construction industry. From 1994 to 2002, DOL awarded WANTO grants annually to CBOs. The outcomes of these prior WANTO grants consisted largely of producing training and resource manuals, as well as recruitment videos. The numbers of women placed in registered apprenticeships through WANTO grant activities were lower than expected.

Studies such as the American Behavioral Scientist article, “Occupational Barriers for Women,” by Thomas Ruble, Renae Cohen, and Diane Ruble (Vol. 27, No. 3, 339-356 (1984)), and a 2009 study by Australia's National Center for Vocational Education Research ¹ have shown that some of the primary barriers to women in nontraditional occupations (NTO) have included a lack of specialized support services, such as dependent care resources (children and dependent adults) and on-the-job mentoring and support from teachers and instructors. Few of these resources for supportive services are available to employers and labor organizations that need assistance in recruiting, training, and retaining women in apprenticeable occupations and other nontraditional occupations. Additionally, through the experience of recent WANTO grants the Department has found that mature women, those who are at least 40 years of age, may in particular experience barriers to employment in nontraditional occupations. Other WANTO grants and finding from studies such as the June 2006 report, Construction Equity: Promising Practices for Recruiting and Retaining Students in Career and Technical Education Programs that Nontraditional for Their Gender,² have demonstrated that the active participation of tradeswomen or women in nontraditional occupations serving as active members of the consortium as either employed staff or as board members has positive impacts on WANTO participants. The Department encourages potential applicants to review the findings from these research studies and best practices from prior WANTO grants when considering whether to develop proposals for this funding opportunity. For information about prior WANTO grants go to http://www.dol.gov/wb/programs/family2.htm and http://www.dol.gov/wb/03awards.htm.

¹ Shewring, Fiona. 2009. The female “tradie”: Challenging employment perceptions in non-traditional trades for women. National Center for Vocational Education Research (NCVER): Adelaide, Australia. http://www.ncver.edu.au/publications/2100.html.

² Programs and Practices That Work: Preparing Student for Nontradtional Careers Project. 2006. Washington, DC: Joint project sponsored by the Association of Career and Technical Education, the National Alliance for Partnerships in Equity, the National Association of State Directors of Career Technical Education Consortium, and the National Women's Law Center. http://www.napequity.org/pdf/Constructing%20Equity.pdf.

To ensure that women served by WANTO grants have access to a full range of supportive services and training, as well as to specific employment opportunities, the WANTO Technical Assistance Grants program has adopted a consortium-based approach. This SGA requires applicants to demonstrate the clear establishment of a consortium consisting of CBOs and RAP sponsors whereby the RAP sponsors will be responsible partners for placing and retaining women into their programs. CBOs will provide job training services including “hard skills” such as the basics of a skilled occupation, core industry skills training such as tool identification, industry math/science, and industry-related reading/literacy; English as a Second Language instruction, as appropriate for WANTO participants; “soft skills” such as work readiness training, team building, and work-place culture; and supportive services such as mentoring, networking events, on-going support groups, drivers' license recovery programming, and leadership development workshops.

DOL first adopted this consortium approach in 2007 and continued it through 2009, as consortia of CBOs and RAP sponsors focused on aligning supportive services, training and employment opportunities for women in construction industry occupations. Under prior SGAs, the consortium approach also required grantees to place 100 grant program participants in apprenticeships, thereby demonstrating the linkages between CBOs and RAP sponsors. Although the current economic downturn has negatively impacted the projected outcomes of these recent grants, ETA's on-site reviews of these grants indicate that the consortia approach does provide a broad array of supportive services and training and linkages to employment opportunities with RAP sponsors participating in these projects. In recognition of the increased challenges associated with placing WANTO program participants into apprenticeships in these economic conditions, this SGA reduces the requirement for consortia to place program 100 participants to a more achievable level of placement of at least 50 participants annually into apprenticeships. However, DOL encourages applicants to develop projects designed to serve more than the minimum level of 50 participants placed annually into apprenticeships.

Unlike recent WANTO SGAs which were limited to the construction industry, this SGA expands the focus to include recruitment, training, placement and retention in A/NTO in a broader range of industries including advanced manufacturing, transportation, and construction, and “green” jobs in industries related to these three industries. Wages in these three NTO industries tend to be higher than other NTO industries. For the purposes of this SGA, all apprenticeable occupations in the industries above meet the definition of NTO, which are defined in the WANTO Act as those in which women make up 25 percent or less of the total number of workers in that occupation. The SGA's focus on these industries supports the Department's strategic emphasis on assuring workers have the skills and knowledge to succeed in the knowledge-based economy, including high growth and emerging industry sectors like “green” jobs. The Occupational Information Network (O*NET) project has drafted a research paper titled, Greening of the World of Work: Implications for O*NET-SOC and New and Emerging Occupations. This study reflects three general categories of occupations, based on different consequences of green economy activities and technologies: (1) Existing occupations expected to experience primarily an increase in employment demand; (2) existing occupations with significant change to the work and worker requirements; and (3) new and emerging green occupations. This research may be helpful in identifying green occupations related to the targeted NTO industries of advanced manufacturing, transportation, and construction. For a copy of the O*NET report and a listing of the identified occupations go to http://www.onetcenter.org/reports/Green.html.

As part of the Department's emphasis on funding projects that reflect a well-thought out strategy that makes use of all available resources, applicants are also strongly encouraged to incorporate leveraged resources in their proposals. Up to five bonus points may be awarded to applications that incorporate leveraged resources. To receive these five bonus points, applicants must provide a detailed explanation about the source and use of leveraged funds, and the extent to which they are integrated into the project in support of grant outcomes.

II. Award Information

A. Award Amount: Under this SGA, ETA will fund approximately six grants in the amount of up to $300,000 each for a total of $1,800.000. No other funding is available for this competition. Grant awards through this SGA will be limited to $300,000, and applicants requesting more than $300,000 will be considered non-responsive. The grants will be awarded in June 2010, and will be funded incrementally.

The OA and WB anticipate awarding approximately $300,000 each to no more than six CBO/RAP consortia over a two-year period, with each consortium consisting of at least one of each: (1) A RAP sponsor in the industries described in Section I.B above; and (2) a CBO (which may be faith-based) with demonstrated experience in providing job training services (work readiness as well as industry-specific training), placement, and support services to women for seeking employment in A/NTO. The CBO must be the lead applicant and the fiscal agent for the grant. Applicants are strongly encouraged, but not required, to develop projects that incorporate more than one RAP sponsor in the consortium and provide training and placement in more than one A/NTO.

B. Cost Sharing: Cost sharing or matching funds are not required as a condition for application. However, up to five bonus points may be awarded for proposals that describe any funds and other resources that will be leveraged to support grant activities. See Section V.A. 4.

C. Period of Performance: The period of performance will be up to 24 months from the date of execution of the grant documents. DOL ETA may approve a request for a no cost extension to grantees for an additional period of time based on the success of the project and other relevant factors.

D. Veterans Priority: The Jobs for Veterans Act (Public Law 107-288) requires grantees to provide priority of service to veterans and spouses of certain veterans for the receipt of employment, training, and placement services in any job training program directly funded, in whole or in part, by DOL. The regulations implementing priority of service for veterans and eligible spouses in DOL job training programs under the Jobs for Veterans Act can be found at Title 20 Code of Federal Regulations (CFR) part 1010. In circumstances where the WANTO grant recipient must choose between two equally qualified candidates for a service, one of whom is a veteran or eligible spouse, the veterans priority of service provisions require that WANTO grant recipients give the veteran or eligible spouse priority of service by first providing her that service. Please note that to obtain priority of service a veteran or spouse must meet the program's eligibility requirement. ETA Training and Employment Guidance Letter (TEGL) No. 10-09 (November 10, 2009) provides guidance on implementing priority of service for veterans and eligible spouses in all qualified job training programs funded in whole or in part by the DOL. TEGL No. 10-09 is available at http://wdr.doleta.gov/directives/corr_doc.cfm?DOCN=2816.

III. Eligibility Information

A. Eligible Applicants: Under this announcement, only CBO/RAP consortia, as defined in Section VIII.F of this SGA, may apply for and receive a grant award. The eligible applicant for the CBO/RAP consortia for the grant must be the CBO, as defined in Section VIII.F. The CBO has the fiscal and administrative responsibility for the grant. ETA will verify that RAP sponsors are registered with ETA or an ETA-recognized State Apprenticeship Agency.

The Department has recently extended funding for current WANTO grantees, therefore these grantees are not eligible to receive funding under this announcement. While a CBO and a RAP are required members of the consortium, DOL ETA encourages applicants to include additional consortium members which can provide expertise or services to enhance the consortium's ability to meet the goals of this SGA. For example, other CBOs or educational institutions may provide supportive services to program participants.

IV. Application and Submission Information

A. How to Obtain an Application Package: This SGA contains all the information needed to apply for this funding opportunity. Additionally, all application materials are available on the following Web sites: http://www.doleta.gov/grants/find_grants.cfm and http://www.grants.gov.

B. Content and Form of Application: The application must consist of three separate and distinct parts: (I) The Cost Proposal, (II) the Technical Proposal, and (III) Attachments to the Technical Proposal. Applications that fail to adhere to the instructions in this section may be deemed non-responsive and if they are deemed non-responsive they will not be considered for award. Please note that it is the applicant's responsibility to ensure that the amount of funds requested is consistent across all parts and sub-parts of the application.

1. Requirements for Part I, the Cost Proposal. The Cost Proposal must include the following four items.

• Application for Federal Assistance SF-424: The Standard Form (SF)-424, “Application for Federal Assistance” is available at http://www07.grants.gov/agencies/forms_repository_information.jsp and http://www.doleta.gov/grants/find_grants.cfm. The SF-424 must clearly identify the applicant and be signed by an individual with authority to enter into a grant agreement. Upon confirmation of an award, the individual signing the SF-424 on behalf of the applicant shall be considered the authorized representative of the applicant.

• Data Universal Number System (D-U-N-S®) Number: Applicants must supply their D-U-N-S® on the SF-424. All applicants for Federal grant and funding opportunities are required to have a D-U-N-S® Number. See Office of Management and Budget (OMB) Notice of Final Policy Issuance, 68 FR 38402, Jun. 27, 2003. The lead applicant, the CBO, must supply their D-U-N-S® number on the SF-424. The D-U-N-S® Number is a non-indicative, nine-digit number assigned to each business location in the Dun and Bradstreet (D&B) database having a unique, separate, and distinct operation, and is maintained solely by D&B entities. The D-U-N-S® Number is used by industries and organizations around the world as a global standard for business identification and tracking. Obtaining a D-U-N-S® Number is easy and there is no charge. To obtain a D-U-N-S® number, access this Web site: http://www.dunandbradstreet.com or call 1-866-705-5711.

• The SF-424A Budget Information Form: The SF-424A Budget Information Form is available at http://www07.grants.gov/agencies/forms_repository_information.jsp and http://www.doleta.gov/grants/find_grants.cfm. In preparing the Budget Information Form, the applicant must provide a concise narrative explanation to support the request, explained in detail below.

• Budget Narrative: The budget narrative must provide a description of costs associated with each line item on the SF-424A. In addition, the applicant should address precisely how the administrative costs support the project goals. The entire Federal grant amount requested should be included on both the SF-424 and SF-424A.

Please note that applicants that fail to provide a SF-424, a SF-424A, a D-U-N-S® Number, and a budget narrative will be removed from consideration before the technical review process.

Applicants are also encouraged, but not required, to submit OMB Survey N. 1890-0014: Survey on Ensuring Equal Opportunity for Applicants, which can be found at http://www.doleta.gov/sga/forms.cfm.

Applicants must include in their Cost Proposal the cost of travel to Washington, DC, for one or two members of the lead applicant organization to attend up to two meetings: (1) The Post-Award Conference in which OA and WB will discuss the project, related components, technical assistance (TA), timelines, and outcomes, as detailed in Section VIII.C of this SGA; and (2) a peer-to-peer TA and training conference with other WANTO grantees, OA, and WB which may be scheduled during the grant period of performance.

2. Part II, the Technical Proposal. The Technical Proposal will demonstrate the applicant's capability to implement the grant project in accordance with the provisions of this solicitation. The Technical Proposal must provide information specified in Section V.A of this SGA. The Technical Proposal is limited to twenty double-spaced, single-sided 8.5 inch by 11 inch pages with 12 point text font and one-inch margins. Any materials beyond the twenty-page limit will not be reviewed. Applicants should number the Technical Proposal beginning with page number 1. Only those attachments listed below as “Required Attachments” will be excluded from the page limit. Applicants that do not provide Part II, the Technical Proposal, will be removed from consideration before the technical review process.

3. Part III. Attachments to the Technical Proposal. In addition to the twenty-page Technical Proposal, the applicant must submit the following “Required Attachments.” Only those attachments listed below as “Required Attachments” will be excluded from the page limit. The “Required Attachments” must be affixed as separate, clearly identified appendices to the application. Additional materials such as resumes or general letters of support or commitment will not be read. The “Required Attachments” are as follows:

(a) A two-page abstract summarizing the proposed project, including but not limited to a description of the consortium members, the scope of the project and proposed outcomes.

(b) A copy of a consortium agreement identifying the roles and responsibilities of each consortium member. The consortium agreement must be signed by a representative for every RAP sponsor and CBO listed in the CBO/RAP consortium. No member of a consortium may make a separate application under this SGA.

Applications may be submitted electronically on Grants.gov or in hardcopy by mail or hand delivery. These processes are described in further detail in Section IV.C. Applicants submitting proposals in hardcopy must submit an original signed application (including the SF-424) and one (1) “copy-ready” version free of bindings, staples or protruding tabs to ease in the reproduction of the proposal by DOL. Applicants submitting proposals in hardcopy are also required to provide an identical electronic copy of the proposal on compact disc (CD).

C. Submission Dates, Times and Addresses: The closing date for receipt of applications under this announcement is April 29, 2010. Applications must be received at the address below no later than 4 p.m. (Eastern Time). Applications sent by e-mail, telegram, or facsimile (FAX) will not be accepted. Applications that do not meet the conditions set forth in this notice will not be honored. No exceptions to the mailing and delivery requirements set forth in this notice will be granted.

Mailed applications must be addressed to the U.S. Department of Labor, Employment and Training Administration, Division of Federal Assistance, Attention: Mamie Williams, Grants Management Specialist, Reference SGA/DFA, PY 09-03, 200 Constitution Avenue, NW., Room N-4716, Washington, DC 20210. Applicants are advised that mail delivery in the Washington area may be delayed due to mail decontamination procedures. Hand-delivered proposals will be received at the above address. All overnight mail will be considered to be hand-delivered and must be received at the designated place by the specified closing date and time.

Applicants may apply online through Grants.gov (http://www.grants.gov); however, due to the expected increase in system activity applicants are encouraged to use an alternate method to submit grant applications during this heightened period of demand. While not mandatory, DOL encourages the submission of applications through professional overnight delivery service.

Applications that are submitted through Grants.gov must be successfully submitted at http://www.grants.gov no later than 4 p.m. Eastern Time by the closing date, and then subsequently validated by Grants.gov. The submission and validation process is described in more detail below. The process can be complicated and time-consuming. Applicants are strongly advised to initiate the process as soon as possible and to plan for time to resolve technical problems if necessary.

ETA strongly recommends that before the applicant begins to write the proposal, applicants should immediately initiate and complete the “Get Registered” registration steps at http://www.grants.gov/applicants/get_registered.jsp. These steps may take multiple days or weeks to complete, and this time should be factored into plans for electronic submission in order to avoid unexpected delays that could result in the rejection of an application. It is strongly recommended that applicants use the “Organization Registration Checklist”' at http://www.grants.gov/assets/Organization_Steps_Complete_Registration.pdf to ensure the registration process is complete.

Within two business days of application submission, Grants.gov will send the applicant two e-mail messages to provide the status of application progress through the system. The first e-mail, almost immediate, will confirm receipt of the application by Grants.gov. The second e-mail will indicate the application has either been successfully validated or has been rejected due to errors. Only applications that have been successfully submitted by the deadline and subsequently successfully validated will be considered. It is the sole responsibility of the applicant to ensure a timely submission. While it is not required that an application be successfully validated before the deadline for submission, it is prudent to reserve time before the deadline in case it is necessary to resubmit an application that has not been successfully validated. Therefore sufficient time should be allotted for submission (two business days) and, if applicable, subsequent time to address errors and receive validation upon resubmission (an additional two business days for each ensuing submission). It is important to note that if sufficient time is not allotted and a rejection notice is received after the due date and time, the application will not be considered.

To ensure consideration, the components of the application must be saved as either .doc, .xls or .pdf files. If submitted in any other format, the applicant bears the risk that compatibility or other issues will prevent our ability to consider the application. ETA will attempt to open the document but will not take any additional measures in the event of issues with opening. In such cases, the non-conforming application will not be considered for funding.

Applicants are strongly advised to use the tools and documents, including Frequently Asked Questions (FAQs), that are available on the “Applicant Resources” page at http://www.grants.gov/applicants/app_help_reso.jsp#faqs. To receive updated information about critical issues, new tips for users and other time sensitive updates as information is available, applicants may subscribe to “Grants.gov Updates” at http://www.grants.gov/applicants/email_subscription_signup.jsp.

If applicants encounter a problem with Grants.gov and do not find an answer in any of the other resources, call 1-800-518-4726 to speak to a Customer Support Representative or e-mail support@grants.gov.

Late Applications: For applications submitted on Grants.gov, only applications that have been successfully submitted no later than 4 p.m. Eastern Time on the closing date and subsequently successfully validated will be considered.

Any application received after the exact date and time specified for receipt at the office designated in this notice will not be considered, unless it is received before awards are made, it was properly addressed, and it was: (a) Sent by U.S. Postal Service mail, postmarked not later than the fifth calendar day before the date specified for receipt of applications (e.g., an application required to be received by the 20th of the month must be postmarked by the 15th of that month); or (b) sent by professional overnight delivery service to the addressee not later than one working day prior to the date specified for receipt of applications. “Postmarked” means a printed, stamped or otherwise placed impression (exclusive of a postage meter machine impression) that is readily identifiable, without further action, as having been supplied or affixed on the date of mailing by an employee of the U.S. Postal Service. Therefore, applicants should request the postal clerk to place a legible hand cancellation “bull's eye” postmark on both the receipt and the package. Failure to adhere to the above instructions will be a basis for a determination of non-responsiveness. Evidence of timely submission by a professional overnight delivery service must be demonstrated by equally reliable evidence created by the delivery service provider indicating the time and place of receipt.

D. Intergovernmental Review: This funding opportunity is not subject to Executive Order 12372, “Intergovernmental Review of Federal Programs.”

E. Other Submission Requirements: Withdrawal of Applications. Applications may be withdrawn by written notice at any time before an award is made.

F. Funding Restrictions: Determinations of allowable costs will be made in accordance with the applicable Federal cost principles. Disallowed costs are those charges to a grant that the grantor agency or its representative determines not to be allowed in accordance with the applicable Federal cost principles or other conditions contained in the grant. Successful and unsuccessful applicants will not be entitled to reimbursement of pre-award costs.

1. Administrative Costs. Under this SGA, an entity that receives a grant to carry out a project or program may not use more than ten percent of the amount of the grant to pay administrative costs associated with the program or project. Administrative costs could be direct or indirect costs, and are defined at 20 CFR 667.220. Administrative costs do not need to be identified separately from program costs on the SF424A Budget Information Form. They should be discussed in the budget narrative and tracked through the grantee's accounting system. To claim any administrative costs that are also indirect costs, the applicant must obtain an Indirect Cost Rate Agreement from its Federal cognizant agency.

2. Indirect Cost Rate. As specified in OMB Circular Cost Principles, indirect costs are those that have been incurred for common or joint objectives and cannot be readily identified with a particular final cost objective. In order to use grant funds for indirect costs incurred, the applicant must obtain an Indirect Cost Rate Agreement with its Federal cognizant agency either before or shortly after grant award.

3. Allowable Costs. The Department determines what constitutes allowable costs in accordance with the following Federal cost principles, as applicable: (1) State and Local Government—OMB Circular A-87; (2) Educational Institutions—OMB Circular A-21; (3) Nonprofit Organizations—OMB Circular A-122; and (4) Profit-making Commercial Firms—48 CFR Part 31.

4. Legal rules pertaining to inherently religious activities by organizations that receive Federal financial assistance. The government is generally prohibited from providing direct Federal financial assistance for inherently religious activities. See 29 CFR part 2, Subpart D. Grants under this solicitation may not be used for religious instruction, worship, prayer, proselytizing, or other inherently religious activities. Neutral, non-religious criteria that neither favor nor disfavor religion will be employed in the selection of grant recipients and must be employed by grantees in the selection of sub-recipients.

5. Salary and Bonus Limitations. Under Public Law 109-234, none of the funds appropriated in Public Law 109-149, or prior Acts under the heading ”Employment and Training” that are available for expenditure on or after June 15, 2006, shall be used by a recipient or sub-recipient of such funds to pay the salary and bonuses of an individual, either as direct costs or indirect costs, at a rate in excess of Executive Level II. Public Laws 111-8 and 111-117 contain the same limitations with respect to funds appropriated under each of those Laws. These limitations also apply to grants funded under this SGA. The salary and bonus limitation does not apply to vendors providing goods and services as defined in OMB Circular A-133 (codified at 29 CFR parts 96 and 99). See Training and Employment Guidance Letter number 5-06 for further clarification: http://wdr.doleta.gov/directives/corr_doc.cfm?DCON=2262.

6. Intellectual Property Rights. The Federal Government reserves a paid-up, nonexclusive and irrevocable license to reproduce, publish or otherwise use, and to authorize others to use for Federal purposes: (i) The copyright in all products developed under the grant, including a subgrant or contract under the grant or subgrant; and (ii) any rights of copyright to which the grantee, subgrantee or a contractor purchases ownership under an award (including but not limited to curricula, training models, technical assistance products, and any related materials). Such uses include, but are not limited to, the right to modify and distribute such products worldwide by any means, electronically or otherwise. Federal funds may not be used to pay any royalty or licensing fee associated with such copyrighted material, although they may be used to pay costs for obtaining a copy which is limited to the developer/seller costs of copying and shipping. If revenues are generated through selling products developed with grant funds, including intellectual property, these revenues are program income. Program income is added to the grant and must be expended for allowable grant activities.

If applicable, the following needs to be on all products developed in whole or in part with grant funds:

“This workforce solution was funded by a grant awarded by the U.S. Department of Labor's Employment and Training Administration. The solution was created by the grantee and does not necessarily reflect the official position of the U.S. Department of Labor. The Department of Labor makes no guarantees, warranties, or assurances of any kind, express or implied, with respect to such information, including any information on linked sites and including, but not limited to, accuracy of the information or its completeness, timeliness, usefulness, adequacy, continued availability, or ownership. This solution is copyrighted by the institution that created it. Internal use by an organization and/or personal use by an individual for non-commercial purposes are permissible. All other uses require the prior authorization of the copyright owner.”

V. Application Review Information

A. Evaluation Criteria

This section identifies and describes the criteria that will be used to evaluate the grant proposals. These criteria and point values are:

(1) Organizational Overview—20 points.

(2) Placement and Retention of Women in Registered Apprenticeship Programs—30 points.

(3) Scope of WANTO Project and Projected Outcomes—50 points.

(4) Bonus Points for Leveraged Resources—5 points.

1. Organizational Overview (20 Points)

To be considered fully responsive, the CBO/RAP consortium applicant must fully and clearly describe all of the following elements in a manner that will demonstrate the organization's experience, capability and qualifications for administering a grant project.

(a) Describe the consortium members' experience and leadership in recruiting, selecting, training, placing and retaining women in apprenticeable nontraditional occupations (5 points).

(b) Describe how the management structure and staffing of the proposed project will enable the CBO/RAP consortium to meet the grant requirements, vision, and goals; and how the management structure and staffing are designed to assure responsible general management of the organization (5 points).

(c) Describe all key tasks associated with the proposal, including the identification of consortium members, and any proposed consultants or subcontractors responsible for completing each task (5 points).

(d) Demonstrate how tradeswomen or women in nontraditional occupations serve as active members of the consortium as either employed staff or as board members (5 points).

2. Placement and Retention of Women in Registered Apprenticeship Programs (30 Points)

The consortium must fully and clearly describe its knowledge of the labor market and how this will help the consortium to place at least 50 women in RAP(s) each year of the grant. The applicant must provide detailed information for the following:

(a) An analysis of labor market information and other information such as survey information from regional employers or trade associations, that demonstrates the demand for skilled workers and the sufficient numbers of suitable and appropriate apprenticeships in the industries described in Section I.B of this SGA in which RAP(s) plan to train, employ, and retain women (10 points).

(b) A description of the apprenticeable occupations in the industries described in Section I.B of this SGA in which the CBO/RAP consortium plans to train, employ, and retain women (10 points).

(c) A description of activities demonstrating previous success with apprentices registered per year for the last five years with the RAP sponsors participating in the CBO/RAP consortium (10 points).

3. Scope of WANTO Project and Projected Outcomes (50 Points)

The applicant must fully and clearly describe the type(s) of technical assistance (TA) to be provided to the RAP(s) with WANTO funding, as well as how the TA will be delivered. The OA and WB consider the successful annual placement of at least 50 women into apprenticeships in the industries specified in Section I.B. to be the primary successful outcome that a grantee can achieve with WANTO funding.

To be considered fully responsive to this element, the applicant must clearly and fully address the following:

(a) Plan of Action for TA (25 Points): Fully and clearly describe in detail the types of TA that will be provided to the RAP(s), and the types of systemic change anticipated by the TA strategies that will be incorporated into ongoing employer recruitment, hiring, training, and promotion of women in A/NTO. Examples of such TA may include, but are not limited to: (1) Outreach strategies and orientation sessions to recruit women into the RAP(s) occupations and specific openings in RAP(s); (2) pre-apprentice programs as defined in Section VIII.F of this SGA, to prepare women for apprenticeship, including English as a Second Language instruction; (3) ongoing orientations for the RAP(s) and workers on creating a successful environment for women in apprenticeship; (4) supportive services such as child care and transportation, support groups, and facilitation of networks for women in apprenticeship, on or off the job site, to improve their retention; (5) liaison services between tradeswomen and the RAP(s) to facilitate retention of the women placed into apprenticeships as a result of the proposed project, as well as retention in apprenticeship of other women who may be already enrolled as registered apprentices with the RAP(s); and (6) conducting exit interviews with tradeswomen who may complete their apprenticeship or leave their apprenticeship before completion, including women placed in the apprenticeship as a result of the proposed project, or other women who may be already enrolled as registered apprentices. These interviews can inform the development, assessment, and improvement of TA strategies provided either through this project or other similar efforts designed to prepare and support tradeswomen for on-the-job experiences in an A/NTO.

(b) Outcomes (25 points): Fully and clearly describe the outcomes the applicant anticipates as a result of WANTO funding. Outcomes must include, but are not limited to: (1) Number of women to be placed in pre-apprenticeships; (2) number of women placed in apprenticeships; and (3) of the women placed in apprenticeships, the percent who retain these apprenticeships through the grant period of performance. Other outcomes could include the number of women achieving skill gains, earning industry-recognized credentials, or meeting other benchmarks appropriate for the particular project.

4. Bonus Points (5 Points)

Bonus points will be awarded for proposals that fully and clearly describe any funds and other resources leveraged to support grant activities and how these funds and other resources will be used to contribute to the proposed outcomes for the project, including any leveraged resources related to the provision of supportive services for program participants. This includes funds and other resources leveraged from businesses, labor organizations, education and training providers, and/or Federal, State, and local government programs. Bonus points will be awarded based on the extent to which the applicant fully demonstrates the amount of leveraged resources provided, the type(s) of leveraged resources provided, the strength of commitment to provide these resources, the breadth and depth of the resources provided, and how well these resources support the proposed grant activities.

In order to receive full credit, applicants must provide quality information that does more than reiterate the requirement statement or provide a brief overview of how the proposed project will address the requirements. Applicants should clearly and fully state how the proposed program will meet the requirements of this SGA. Therefore, responses must be thoughtful and reflect a strategic vision for how these requirements will be achieved. In addition, an applicant that describes only what has been accomplished in the past but lacks full description of what it will do during the grant period will not receive credit for the response.

B. Review and Selection Process

Selection Process. Applications for grants under this solicitation will be accepted after the publication of this announcement until the closing date. A technical review panel will make careful evaluation of applications against the criteria. These criteria are based on the policy goals, priorities, and emphases set forth in this SGA. Up to 105 points may be awarded to an application, based on the required information described in Section V.A. The ranked scores will serve as the primary basis for selection of applications for funding, in conjunction with other factors such as technical quality, geographic balance, occupational and/or industry representation, availability of funds and uniqueness of project. The panel results are advisory in nature and not binding on the Grant Officer, and the Grant Officer may consider any information that comes to his/her attention. The government may elect to award the grant(s) with or without discussions with the applicants. Should a grant be awarded without discussions, the award will be based on the applicant's signature on the SF-424, which constitutes a binding offer by the applicant including electronic signature via E-Authentication on http://www.grants.gov. The Grant Officer's determination of award under this SGA is the final agency action.

VI. Additional Award Administration Information

A. Award Notices

All award notifications will be posted on the ETA Homepage (http://www.doleta.gov). Applicants selected for award will be contacted directly before the grant's execution and non-selected applicants will be notified by mail. Selection of an organization as a grantee does not constitute approval of the grant application as submitted. Before the actual grant is awarded, ETA may enter into negotiations about such items as program components, staffing and funding levels, and administrative systems in place to support grant implementation. If the negotiations do not result in a mutually acceptable submission, the Grant Officer reserves the right to terminate the negotiation and decline to fund the application.

B. Administrative and National Policy Requirements

1. Administrative Program Requirements

All grantees, including FBOs, will be subject to all applicable Federal laws, regulations (available at http://gpoaccess.gov/cfr) and the applicable OMB Circulars (available at http://www.whitehouse.gov/omb/circulars). The grants awarded under this SGA are subject to the applicable administrative standards and provisions, including, but not limited to, the following:

• All Grant Recipients—20 CFR part 667.220 (Administrative Costs).

• Non-Profit Organizations—OMB Circulars A-122 (Cost Principles) and 29 CFR part 95 (Administrative Requirements).

• Educational Institutions—OMB Circulars A-21 (Cost Principles) and 29 CFR part 95 (Administrative Requirements).

• State and Local Governments—OMB Circulars A-87 (Cost Principles) and 29 CFR part 97 (Administrative Requirements).

• Profit Making Commercial Firms—Federal Acquisition Regulation (FAR)—48 CFR part 31 (Cost Principles), and 29 CFR part 95 (Administrative Requirements).

• 29 CFR part 2, subpart D—Equal Treatment in Department of Labor Programs for Religious Organizations, Protection of Religious Liberty of Department of Labor Social Service Providers and Beneficiaries.

• 29 CFR parts 29 and 30—Labor Standards for Registration of Apprenticeship Programs, and Equal Employment Opportunity in Apprenticeship and Training.

• 29 CFR part 31—Nondiscrimination in Federally Assisted Programs of the Department of Labor—Effectuation of Title VI of the Civil Rights Act of 1964.

• 29 CFR part 32—Nondiscrimination on the Basis of Handicap in Programs and Activities Receiving or Benefiting from Federal Financial Assistance.

• 29 CFR part 33—Enforcement of Nondiscrimination on the Basis of Handicap in Programs or Activities Conducted by the Department of Labor.

• 29 CFR part 35—Nondiscrimination on the Basis of Age in Programs or Activities Receiving Federal Financial Assistance from the Department of Labor.

• 29 CFR part 36—Nondiscrimination on the Basis of Sex in Education Programs or Activities Receiving Federal Financial Assistance.

• All entities must comply with 29 CFR parts 37, 93, and 98, and where applicable 29 CFR parts 96 and 99.

The Department notes that the Religious Freedom Restoration Act (RFRA), 42 U.S.C. sec. 2000bb, applies to all Federal law and its implementation. If your organization is a faith-based organization that makes hiring decisions on the basis of religious belief, it may be entitled to receive Federal financial assistance under Title I of the Workforce Investment Act and maintain that hiring practice even though Section 188 of the Workforce Investment Act contains a general ban on religious discrimination in employment. If you are awarded a grant, you will be provided with information on how to request such an exemption.

In accordance with Section 18 of the Lobbying Disclosure Act of 1995 (Pub. L. 104-65) (2 U.S.C. 1611) and 29 CFR part 93, non-profit entities that engage in lobbying activities are not eligible to receive Federal funds and grants.

2. Administrative Standards and Provisions

Except as specifically provided, DOL ETA acceptance of a proposal and an award of Federal funds to sponsor any program(s) does not provide a waiver of any grant requirements and/or procedures. For example, the OMB circulars require, and an entity's procurement procedures must require, that all procurement transactions will be conducted, as practical, to provide full and open competition. If a proposal identifies a specific entity to provide the services, the DOL ETA award does not provide the justification or basis to sole-source the procurement, i.e., avoid competition, unless the activity is regarded as the primary work of an official partner to the application.

C. Reporting

The grantee is required to provide the reports and documentation listed below.

1. Quarterly Financial Reports. A Quarterly Financial Status Report (ETA 9130) is required until such time as all funds have been expended or the grant period has expired. Quarterly reports are due 45 days after the end of each calendar year quarter. Grantees must use DOL ETA's On-Line Electronic Reporting System. A Closeout Financial Status Report is due 90 days after the end of the grant period.

2. Quarterly Progress Reports. The grantee must submit a quarterly progress report to the designated Federal Project Officer within 45 days after the end of each calendar year quarter. Two copies are to be submitted providing a detailed account of activities undertaken during that quarter. DOL ETA may require additional data elements to be collected and reported on either a regular basis or special request basis. Grantees must agree to meet DOL ETA reporting requirements. The quarterly progress report should be in narrative form and should include:

(a) A comparison of actual accomplishments with the goals and objectives established for the period. This must include discussion of placements in pre-apprenticeship programs, apprenticeships and nontraditional jobs, giving the name and address of each workplace and company involved; and TA provided to RAP(s) as well as the nature of the TA provided.

(b) Reasons why established goals were not met, if appropriate, or descriptions of strategies that were particularly effective and allowed goals to be exceeded.

(c) Any problems that may impede the performance of the grant and the proposed corrective action.

(d) Any changes in the proposed work to be performed during the next reporting period.

In addition, between scheduled reporting dates, the grantee(s) must immediately inform the designated Federal Project Officer of significant developments affecting the ability to accomplish the work.

3. Final Report. No later than 90 days after the expiration of the grant award, the grantee must submit two copies of the camera-ready final report, each bound in a professional manner in a loose-leaf notebook. These materials must be paid for with grant funds. Instructions for the final report will be issued and may include performance data; outcome results such as placement in apprenticeship and retention of women placed in apprenticeship; an assessment of the grant project, any employer or labor organization plans for follow-up of participants, such as strategies to help retain participants in the apprenticeships; and an Executive Summary of no more than three (3) pages. Upon request of either the OA or WB, the grantee must submit a draft final report no more than 60 days after the expiration date of the grant. The OA and the WB will then review the draft report, and provide written comments to the grantee within 15 days of receipt.

Applicants should be aware of Federal guidelines on record retention, which require grantees to maintain all records pertaining to grant activities for a period of not less than three years from the time of final grant close-out.

VII. Agency Contacts

For further information about this SGA, please contact Mamie Williams, Grants Management Specialist, Division of Federal Assistance at (202) 693-3341. This is not a toll-free number. Applicants may fax questions about the program or information in this SGA to (202) 693-2879, and must specifically address the fax to the attention of Mamie Williams, and should include SGA/DFA PY09-03, a contact name, fax and phone number, and an e-mail address. Applicants may e-mail questions to Williams.mamie@dol.gov, and include a contact name, fax and phone number, and an e-mail address. The mailing address is: U.S. Department of Labor, Employment and Training Administration, Attention: Mamie Williams, 200 Constitution Avenue, NW., Room N-4716, Washington, DC 20210.

VIII. Other Information

A. OMB Information Collection No. 1225-0086 Expires November 30, 2012

According to the Paperwork Reduction Act of 1995, no persons are required to respond to a collection of information unless such collection displays a valid OMB control number. Public reporting burden for this collection of information is estimated to average 20 hours per response, including time for reviewing instructions, searching existing data sources, gathering and maintaining the data needed, and completing and reviewing the collection of information. Send comments regarding the burden estimated or any other aspect of this collection of information, including suggestions for reducing this burden, to the U.S. Department of Labor, to the attention of Darrin A. King, Departmental Clearance Officer, 200 Constitution Avenue, NW., Room N-1310, Washington, DC 20210. Comments may also be e-mailed to DOL_PRA_PUBLIC@dol.gov. Please do not return the completed application to this address. Send it to the sponsoring agency as specified in this solicitation.

This information is being collected for the purpose of awarding a grant. The information collected through this SGA will be used by the Department to ensure that grants are awarded to the applicant best suited to perform the functions of the grant. Submission of this information is required in order for the applicant to be considered for award of this grant. Unless otherwise specifically noted in this announcement, information submitted in the respondent's application is not considered to be confidential, and will be available to the public. Applications filed in response to this SGA may be posted on the Department's Web site.

B. Questions About the Program or SGA

Address all questions to the Grant Specialist specified in Part VII of this SGA. Please do not direct questions to the OA or WB.

C. Post Grant Award Conference

No later than eight weeks after an award, the grantees must meet with the OA and the WB at the Post-Award Conference to discuss the project, related components and TA; timelines; TA outcomes; assessment comments and final approval. The grantees, the OA and WB will discuss and make decisions on the following program activities:

• The proposed TA commitments for registered apprenticeship, and related skilled nontraditional occupation activities and responsibilities; the number of targeted RAP(s); and the number of women who will be placed in a registered apprenticeship program.

• The methodology the proposed partnership will use to support/change management and employee attitudes to promote female workers in A/NTO.

• The types of systemic change anticipated by the TA strategies that will be incorporated into ongoing employer recruitment, hiring, training, and promotion of women in A/NTO.

• The occupational, industrial, and geographical impact anticipated.

• The supportive services to be provided to employers and women after successful placement into A/NTO.

The OA and WB will provide further input orally or in writing, if necessary, within ten working days after the Post-Award Conference.

D. Grant Plan of Action

If, as a result of the Post-Award Conference, revisions are necessary, the grantee must submit its proposed revisions to the designated Federal Project Office within ten weeks after an award. The grantee, the designated Federal Project Officer, OA and WB will discuss, adjust as necessary, and confirm the “plan of action for TA” included in the applicant's Technical Proposals in response to Section V.A.3(a) of this SGA, and provide a detailed timeline for program implementation. If the negotiations do not result in a mutually acceptable submission, the Grant Officer reserves the right to terminate the negotiation and decline to fund the application.

E. Grant Implementation

No later than twelve weeks after an award, the grantee(s) must have begun to recruit, train, place, retain, and otherwise prepare women for registered apprenticeships in the industries set forth in this SGA, with progress to be measured in terms of numbers of women placed and retained in registered apprenticeships and nontraditional occupations.

F. Acronyms and Definitions

For the purposes of this SGA, the following terms are defined for the convenience of prospective applicants:

A/NTO refers to apprenticeship and nontraditional occupations.

Apprenticeship Committee, as defined in 29 CFR 29.2, means those persons designated by the sponsor to administer the program. A committee may be either joint or non-joint, as follows:

(a) A joint committee is composed of an equal number of representatives of the employer(s) and of the employees represented by a bona fide collective bargaining agent(s).

(b) A non-joint committee, which may also be known as a unilateral or group non-joint (which may include employees) committee, has employer representatives but does not have a bona fide collective bargaining agent as a participant.

Apprenticeable occupations, as defined in 29 CFR 29.4, are specified by industry and which (a) involve skills that are customarily learned in a practical way through a structured, systematic program of on-the-job supervised learning; (b) be clearly identified and commonly recognized throughout an industry; (c) involve the progressive attainment of manual, mechanical or technical skills and knowledge which, in accordance with the industry standard for the occupation, would require the completion of at least 2,000 hours of on-the-job learning to attain; and (d) require related instruction to supplement the on-the-job learning.

CBO (Community-Based Organization) is a private nonprofit organization (i.e., incorporated under IRS Section 501(c)(3) or 501(c)(4) (except for section 501(c)(4) organizations that engage in lobbying as described in Section VI. B. of this SGA), or is actively pursuing IRS nonprofit tax exempt status) which may be faith-based, that is representative of a community or a significant segment of a community, and which provides job training services and has demonstrated experience administering programs that train women for A/NTO. A CBO, as defined in the WANTO Act, means a “community-based organization as defined in [section 101(7) of WIA (29 U.S.C. 2801 7)], that has demonstrated experience administering programs that train women for apprenticeable occupations or other nontraditional occupations.” WIA states, “The term `community-based organizations' means `private nonprofit organizations which are representative of communities or significant segments of communities and which provide job training services.' ” The WIA definition provides examples of organizations which meet the definition, including “union-related organizations” and “employer-related nonprofit organizations.”)

CBO/RAP Consortium refers to a group consisting of a minimum of: (1) A RAP sponsor; and (2) a CBO (which may be faith-based) with demonstrated experience in providing job training services (“hard skills” such as the basics of a skilled occupation, core industry skills training such as tool identification, industry math/science, and industry-related reading/literacy; “soft skills” such as work readiness training, team building, work-place culture; and supportive services such as English as a Second Language, mentoring, networking events, on-going support groups, drivers' license recovery programming, and leadership development workshops.

NTO (Nontraditional Occupations) are those where women account for less than 25 percent of all persons employed in a single occupational group. For the most recent listing of nontraditional occupations, see the WB Web site at http://www.dol.gov/wb/stats/main.htm.

OA refers to the Office of Apprenticeship, U.S. Department of Labor, Employment and Training Administration.

Pre-Apprenticeship Programs are those programs that prepare individuals for registered apprenticeship. Depending on the apprenticeable occupation for which the program is preparing students, the curriculum would vary. For example, a curriculum for a construction industry occupation may include pre-vocational identification and use of tools, blueprint reading, basic shop skills, safety procedures, math skills, and physical conditioning. English as a Second Language and team-building skills might also be included.

Registered Apprenticeship is a formal employment relationship designed to promote skill training and learning on the job. “Hands on” learning takes place in conjunction with related theoretical instruction (often in a classroom setting). An apprentice who successfully completes an OA registered program, which usually requires 3 to 5 years, is awarded a certificate of completion of apprenticeship. An OA registered program is one in which employers, or groups of employers, and unions design, organize, manage, and finance apprenticeship programs under the standards developed and registered with OA or a DOL ETA-recognized State Apprenticeship Agency. Employers, or groups of employers, and unions also select apprentices who are trained to meet certain predetermined occupational standards. For more information, see the OA Web site at http://www.doleta.gov/oa/.

RAP refers to Registered Apprenticeship Program.

Registered Apprenticeship Program Sponsor refers to any person, association, committee, or organization operating an apprenticeship program in whose name the program is (or is to be) registered or approved.

TA refers to technical assistance.

WANTO refers to Women in Apprenticeship and Nontraditional Occupations.

WB refers to the Women's Bureau, U.S. Department of Labor.

Please be advised that the Grant Officer for this competition is B. Jai Johnson.

Signed, at Washington, DC, this 24th day of March 2010.
Eric D. Luetkenhaus,
Grant Officer.

[FR Doc. 2010-6950 Filed 3-29-10; 8:45 am]

BILLING CODE 4510-FR-P